DEPARTMENT OF STATE

[Public Notice: 11239]

Determination Pursuant to the Foreign Missions Act

Pursuant to the authority vested in the Secretary of State by the laws of the United States including the Foreign Missions Act (22 U.S.C. 4301 et seq.) and delegated pursuant to Department of State Delegation of Authority No. 214, dated September 30, 1994, I hereby determine that the representative offices and operations in the United States of Yicai Global (also known as China Business Network), including their real property and personnel, are a foreign mission within the meaning of 22 U.S.C. 4302(a)(3).

Furthermore, I hereby determine it to be reasonably necessary to protect the interests of the United States to require the representative offices and operations in the United States of Yicai Global, and their agents or employees acting on their behalf, to comply with the terms and conditions specified by the Department of State's Office of Foreign Missions relating to the above named entities' activities in the United States.

Finally, I determine that the requirement established by Foreign Missions Act Designation and Determination No. 2020-2, dated June 5, 2020, will not be applied to Yicai Global unless and until further notice.

Clifton C. Seagroves,
Acting Director, Office of Foreign Missions.

[FR Doc. 2020-24085 Filed 10-29-20; 8:45 am]

BILLING CODE 4710-43-P